FEDERAL COMMUNICATIONS COMMISSION

47 CFR Part 73

[DA 03-2346; MB Docket No. 03-168, RM-10747; MB Docket No. 03-169, RM-10748]

Radio Broadcasting Services; Crowell, TX and Florien, LA

AGENCY: Federal Communications Commission.

ACTION: Proposed rule.

SUMMARY: The Audio Division requests comment on a petition filed by Charles Crawford proposing the allotment of Channel 293C3 at Crowell, Texas, as the community's first local aural transmission service. Channel 293C3 can be allotted to Crowell in compliance with the Commission's minimum distance separation requirements with a site restriction of 10.7 kilometers (6.6 miles) west to avoid a short-spacing to the application site of Station KBZS, Channel 292C2, Wichita, Texas. The reference coordinates for Channel 293C3 at Crowell are 34-01-11 North Latitude and 99-49-53 West Longitude. The Audio Division also requests comments on a petition filed by Charles Crawford proposing the allotment of Channel 242A at Florien, Louisiana, as the community's first local aural transmission service. Channel 242A can be allotted to Florien in compliance with the Commission's minimum distance separation requirements at city reference coordinates. The reference coordinates for Channel 242A at Florien are 31-26-37 North Latitude and 93-27-26 West Longitude.

DATES: Comments must be filed on or before September 15, 2003, and reply comments on or before September 30, 2003.

ADDRESSES: Federal Communications Commission, 445 Twelfth Street, SW., Washington, DC 20554. In addition to filing comments with the FCC, interested parties should serve the petitioner, his counsel, or consultant, as follows: Charles Crawford, 4553 Bordeaux Avenue, Dallas, Texas 75205.

FOR FURTHER INFORMATION CONTACT: Rolanda F. Smith, Media Bureau, (202) 418-2180.

SUPPLEMENTARY INFORMATION: This is a synopsis of the Commission's Notice of Proposed Rule Making, MB Docket Nos. 03-168 and 03-169, adopted July 23, 2003, and released July 24, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Louisiana, is amended by adding Florien, Channel 242A.

3. Section 73.202(b), the Table of FM Allotments under Texas, is amended by adding Crowell, Channel 293C3.

Federal Communications Commission.
John A. Karousos,
Assistant Chief, Audio Division, Media Bureau.

[FR Doc. 03-20207 Filed 8-7-03; 8:45 am]

BILLING CODE 6712-01-P